DEPARTMENT OF TRANSPORTATION

Federal Highway Administration

Notice of Final Federal Agency Actions on Proposed Highway Projects in Texas

AGENCY: Federal Highway Administration (FHWA), DOT.

ACTION: Notice of limitation on claims for judicial review.

SUMMARY: The FHWA, on behalf of the Texas Department of Transportation (TxDOT), is issuing this notice to announce actions taken by TxDOT and other Federal agencies that are final agency actions. The actions relate to various proposed highway projects in the State of Texas. These actions grant licenses, permits, and approvals for the projects.

DATES: By this notice, the FHWA, on behalf of TxDOT, is advising the public of final agency actions subject to 23 U.S.C. 139(l)(1). A claim seeking judicial review of the Federal Agency actions on the highway projects listed below will be barred unless the claim is filed on or before May 22, 2026. If the Federal law that authorizes judicial review of a claim provides a time period of less than 150 days for filing such a claim, then that shorter time period still applies.

FOR FURTHER INFORMATION CONTACT: Patrick Lee, Environmental Affairs Division, Texas Department of Transportation, 125 East 11th Street, Austin, Texas 78701; telephone: (512) 419-8604; email: Patrick.Lee@txdot.gov. TxDOT's normal business hours are 8 a.m. to 5 p.m. (Central Standard Time), Monday through Friday, except State holidays.

SUPPLEMENTARY INFORMATION: The environmental review, consultation, and other actions required by applicable Federal environmental laws for these projects are being, or have been, carried out by TxDOT pursuant to 23 U.S.C. 327 and a Memorandum of Understanding dated July 17, 2025, and executed by the FHWA and TxDOT.

Notice is hereby given that TxDOT and Federal agencies have taken final agency actions by issuing licenses, permits, and approvals for the highway projects in the State of Texas that are listed below.

The actions by TxDOT and Federal agencies and the laws under which such actions were taken are described in the Categorical Exclusion (CE), Environmental Assessment (EA), or Environmental Impact Statement (EIS) issued in connection with the projects and in other key project documents. The CE, EA, or EIS and other key documents for the listed projects are available by contacting the local TxDOT office at the address or telephone number provided for each project below.

This notice applies to all TxDOT and Federal agency decisions as of the issuance date of this notice and all laws under which such actions were taken, including but not limited to:

1. General: National Environmental Policy Act (NEPA) [42 U.S.C. 4321 et seq.]; Federal-Aid Highway Act [23 U.S.C. 109 and 23 U.S.C. 128]; 23 CFR part 771.

2. Air: Clean Air Act [42 U.S.C. 7401-7671(q)].

3. Noise: Noise Control Act of 1972 [42 U.S.C. 4901-4918]; 23 CFR part 772.

4. Land: Section 4(f) of the Department of Transportation Act of 1966 [23 U.S.C. 138 and 49 U.S.C. 303]; 23 CFR part 774; Land and Water Conservation Fund (LWCF) [54 U.S.C. 200302-200310]; Landscaping and Scenic Enhancement (Wildflowers) [23 U.S.C. 319].

5. Wildlife: Endangered Species Act [16 U.S.C. 1531-1544 and 1536], Marine Mammal Protection Act [16 U.S.C. 1361-1423h]; Anadromous Fish Conservation Act [16 U.S.C. 757(a)-757(f)]; Fish and Wildlife Coordination Act [16 U.S.C. 661-667(d)]; Migratory Bird Treaty Act [16 U.S.C. 703-712]; Magnuson-Stevenson Fishery Conservation and Management Act of 1976, as amended [16 U.S.C. 1801-1891d], with Essential Fish Habitat requirements [16 U.S.C. 1855(b)(2)].

6. Historic and Cultural Resources: Section 106 of the National Historic Preservation Act of 1966, as amended [54 U.S.C. 300101 et seq.]; Archaeological Resources Protection Act of 1979 (ARPA) [16 U.S.C. 470(aa)-470(II)]; Preservation of Historical and Archaeological Data [54 U.S.C.312501-312508]; Native American Grave Protection and Repatriation Act (NAGPRA) [25 U.S.C. 3001-3013; 18 U.S.C. 1170].

7. Social and Economic: Civil Rights Act of 1964 [42 U.S.C. 2000(d)-2000(d)(1)]; American Indian Religious Freedom Act [42 U.S.C. 1996]; Farmland Protection Policy Act (FPPA) [7 U.S.C. 4201-4209].

8. Wetlands and Water Resources: Clean Water Act [33 U.S.C. 1251-1377] (Section 404, Section 401, Section 319); Coastal Barriers Resources Act (CBRA) [16 U.S.C. 3501-3510]; Coastal Zone Management Act (CZMA) [16 U.S.C. 1451-1466]; Safe Drinking Water Act (SDWA) [42 U.S.C. 300f-300j-26]; Rivers and Harbors Act of 1899 [33 U.S.C. 401-406]; Wild and Scenic Rivers Act [16 U.S.C. 1271-1287]; Emergency Wetlands Resources Act [16 U.S.C. 3921, 3931]; Wetlands Mitigation, [23 U.S.C. 119(g) and 133(b)(3)]; Flood Disaster Protection Act [42 U.S.C. 4001-4130].

9. Hazardous Materials: Comprehensive Environmental Response, Compensation, and Liability Act (CERCLA) [42 U.S.C. 9601-9675]; Superfund Amendments and Reauthorization Act of 1986 (SARA); Resource Conservation and Recovery Act (RCRA) [42 U.S.C. 6901-6992(k)].

10. Executive Orders: E.O. 11990 Protection of Wetlands; E.O. 11988 Floodplain Management; E.O. 11593 Protection and Enhancement of Cultural Resources; E.O. 13007 Indian Sacred Sites; E.O. 13287 Preserve America; E.O. 13175 Consultation and Coordination with Indian Tribal Governments; E.O. 13112 Invasive Species.

The projects subject to this notice are:

1. Cordova Road from SH 46 to SH 123, Guadalupe County, Texas. The project will widen Cordova Road from two to four lanes with a shared use path on both sides of the roadway. The project will also include a raised median with intermittent breaks to accommodate a center left-turn lane. The project is 3.45 miles long. The actions by TxDOT and Federal agencies and the laws under which such actions were taken are described in the Categorical Exclusion Determination issued on September 2, 2025, and other documents in the TxDOT project file. The Categorical Exclusion Determination and other documents in the TxDOT project file are available by contacting the TxDOT San Antonio District Office at 4615 NW Loop 410, San Antonio, TX 78229; telephone: (210) 615-5839.

2. Trenton Road from I-69C to FM 907, Hidalgo County, Texas. The project will widen and reconstruct the existing two-lane rural roadway to a four-lane urban roadway. The proposed 66-foot-wide road would consist of four 12-foot-wide travel lanes, a 14-foot-wide continuous left-turn lane, a 10-foot-wide shared use path on one side of the roadway, and a 5-foot-wide sidewalk on the opposite side of the road. The project is approximately 3.4 miles in length. The actions by TxDOT and Federal agencies and the laws under which such actions were taken are described in the Categorical Exclusion Determination issued on September 3, 2025, and other documents in the TxDOT project file. The Categorical Exclusion Determination and other documents in the TxDOT project file are available by contacting the TxDOT Pharr District Office at 600 West Interstate 2, Pharr, TX 78577; telephone: (956) 702-6101.

3. SH 185 from 7th Street to King Road, Victoria County, Texas. The project will construct a two-lane overpass on SH 185 over the existing railroad tracks in Bloomington from 7th Street to 0.1 mile south of King Road, a distance of approximately 0.92 mile. Access roads will be constructed on each side of the overpass to provide access to existing city streets and commercial/residential properties. Additionally, FM 616 will be realigned as part of the project. The realignment of FM 616 will be from the intersection with King Road east of Bloomington, shifting to the south side of and parallel to King Rd, intersecting with SH 185 just south of the existing SH 185/King Rd intersection, and merging back into King Rd just west of the existing intersection of King Rd and SH 185. King Rd will terminate in cul-de-sacs on the east side of SH 185 as well as the east end of King Rd approximately 0.5 miles east of SH 185. Herbert Avenue will be extended approximately 100 ft to provide access to the realigned FM 616. The actions by TxDOT and Federal agencies and the laws under which such actions were taken are described in the Categorical Exclusion Determination issued on September 5, 2025, and other documents in the TxDOT project file. The Categorical Exclusion Determination and other documents in the TxDOT project file are available by contacting the TxDOT Yoakum District Office at 403 Huck St., Yoakum, TX 77995; telephone: (361) 293-4300.

4. SH 75 from south of FM 3083 to League Line Road, Montgomery County, Texas. The project consists of widening SH 75 from a two-lane roadway to a four-lane divided roadway for 4.9 miles. The actions by TxDOT and Federal agencies and the laws under which such actions were taken are described in the Categorical Exclusion Determination issued on September 26, 2025, and other documents in the TxDOT project file. The Categorical Exclusion Determination and other documents in the TxDOT project file are available by contacting the TxDOT Houston District Office located at 7600 Washington Avenue, Houston, TX 77007; telephone: (713) 802-5000.

5. IH 20 from SH 19 to FM 17, Van Zandt County, Texas. The project will construct a westbound frontage road on IH 20. The project length is 1.362 miles. The actions by TxDOT and Federal agencies and the laws under which such actions were taken are described in the Categorical Exclusion Determination issued on September 29, 2025, and other documents in the TxDOT project file. The Categorical Exclusion Determination and other documents in the TxDOT project file are available by contacting the TxDOT Tyler District Office at 2709 W Front St., Tyler, TX 75702; telephone: (903) 510-9100.

6. Vallecillo Road New Location and Reconstruction from FM 1472 to IH 35, Webb County, Texas. The Vallecillo Road project is a new location east-west roadway within the city limits of the City of Laredo. It is situated about a mile and a half north of IH 69 West and aligned with A.F. Muller Boulevard, directly connecting FM 1472 (Mines Road) with IH 35. The project will be approximately 2.85 miles in length and consist of four travel lanes, two in each direction, and will have a raised concrete median in the center. The actions by TxDOT and Federal agencies and the laws under which such actions were taken are described in the Categorical Exclusion Determination issued on October 2, 2025, and other documents in the TxDOT project file. The Categorical Exclusion Documentation and other documents in the TxDOT project file are available by contacting the TxDOT Laredo District Office at 1817 Bob Bullock Loop, Laredo, TX 78043; telephone: (956) 712-7400.

7. FM 529 from Waller County Line to Katy Hockley Cutoff Road, Harris County, Texas. The project includes widening FM 529 from a two-lane roadway to a four-lane roadway between FM 362 and Katy Hockley Road and from two lanes to six lanes between Katy Hockley Cutoff Road and SH 99. The project is approximately 12 miles long. The actions by TxDOT and Federal agencies and the laws under which such actions were taken are described in the Categorical Exclusion Determination issued on October 2, 2025, and other documents in the TxDOT project file. The Categorical Exclusion Determination and other documents in the TxDOT project file are available by contacting the TxDOT Houston District Office located at 7600 Washington Avenue, Houston, TX 77007; telephone: (713) 802-5000.

8. FM 755 Rehab Super 2 from Starr/Brooks County Line to FM 1017, Starr County, Texas. The project will consist of the reconstruction of the roadway by adding two feet of additional pavement on each side of the road, and the addition of passing lanes. The road footprint will be widened from 40 to 44 feet throughout the project limits. The project is 7.949 miles long. The actions by TxDOT and Federal agencies and the laws under which such actions were taken are described in the Categorical Exclusion Determination issued on October 31, 2025, and other documents in the TxDOT project file. The Categorical Exclusion Determination and other documents in the TxDOT project file are available by contacting the TxDOT Pharr District Office at 600 West Interstate 2, Pharr, TX 78577; telephone: (956) 702-6101.

9. Barbarosa Road/Saur Lane from FM 1101 to Saengerhalle Road, Bexar County, Texas. The project will upgrade the existing roadway to have two travel lanes in each direction with a combination of center turn lane and medians. Turn lanes will be constructed at major intersections. A continuous sidewalk will be provided along the northern side of the roadway between FM 1101 and Westmeyer Road. A shared-use path will be provided between FM 1101 and Saengerhalle Road on the southside of the roadway. The actions by TxDOT and Federal agencies and the laws under which such actions were taken are described in the Categorical Exclusion Determination issued on November 20, 2025, and other documents in the TxDOT project file. The Categorical Exclusion Determination and other documents in the TxDOT project file are available by contacting the TxDOT San Antonio District Office at 4615 NW Loop 410, San Antonio, TX 78229; telephone: (210) 615-1110.

10. 30 East Corridor From I-45 to Ferguson Road, Dallas County, Texas. The project will widen I-30 between I-45 and Ferguson Road from eight mainlanes (four in each direction) to ten mainlanes (five in each direction) and add two reversible managed lanes in the center median. The mainlanes will be depressed to a lower elevation than that of the proposed frontage roads. Access ramps throughout the project will be reconstructed. The project will construct new cross street bridges across the depressed mainlanes. The project length is approximately five miles. The actions by TxDOT and Federal agencies and the laws under which such actions were taken are described in the Final EA, the Finding of No Significant Impact (FONSI) issued on October 24, 2025, and other documents in the TxDOT project file. The EA, FONSI, and other documents in the TxDOT project file are available by contacting the TxDOT Dallas District Office at 4777 E Highway 80, Mesquite, TX 75150; telephone: (214) 320-4480.

(Catalog of Federal Domestic Assistance Program Number 20.205, Highway Planning and Construction. The regulations implementing Executive Order 12372 regarding intergovernmental consultation on Federal programs and activities apply to this program.)

(Authority: 23 U.S.C. 139(l)(1)).

Issued on: December 18, 2025.
Ed Burgos-Gomez,
Acting Director Program Development, Federal Highway Administration.

[FR Doc. 2025-23636 Filed 12-22-25; 8:45 am]

BILLING CODE 4910-RY-P